DEPARTMENT OF TRANSPORTATION

Federal Aviation Administration

14 CFR Part 39

[Docket No. FAA-2020-0649; Product Identifier 2019-SW-061-AD]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for certain Leonardo S.p.a. (Leonardo) Model AB139 and AW139 helicopters. This proposed AD would require removing certain engine mounting rods from service and prohibit their installation on any helicopter. This proposed AD was prompted by a report of non-conforming engine mounting rods. The actions of this proposed AD are intended to address an unsafe condition on these products.

DATES: The FAA must receive comments on this proposed AD by September 8, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0649; or in person at Docket Operations between 9 a.m. and 5 p.m., Monday through Friday, except Federal holidays. The AD docket contains this proposed AD, the European Union Aviation Safety Agency (EASA) AD, any comments received, and other information. The street address for Docket Operations is listed above. Comments will be available in the AD docket shortly after receipt.

For service information identified in this proposed rule, contact Leonardo S.p.a. Helicopters, Emanuele Bufano, Head of Airworthiness, Viale G.Agusta 520, 21017 C.Costa di Samarate (Va) Italy; telephone +39-0331-225074; fax +39-0331-229046; or at https://www.leonardocompany.com/en/home. You may view the referenced service information at the FAA, Office of the Regional Counsel, Southwest Region, 10101 Hillwood Pkwy., Room 6N-321, Fort Worth, TX 76177.

FOR FURTHER INFORMATION CONTACT: Kristi Bradley, Aerospace Engineer, Rotorcraft Standards Branch, FAA, 10101 Hillwood Pkwy., Fort Worth, TX 76177; telephone 817-222-5110; email kristin.bradley@faa.gov.

SUPPLEMENTARY INFORMATION:

Comments Invited

The FAA invites you to participate in this rulemaking by submitting written comments, data, or views. The most helpful comments reference a specific portion of the proposal, explain the reason for any recommended change, and include supporting data. To ensure the docket does not contain duplicate comments, commenters should send only one copy of written comments, or if comments are filed electronically, commenters should submit only one time.

Except for Confidential Business Information (CBI) as described in the following paragraph, and other information as described in 14 CFR 11.35, the FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, Aerospace Engineer, Rotorcraft Standards Branch, FAA, 10101 Hillwood Pkwy., Fort Worth, TX 76177; telephone 817-222-5110; email kristin.bradley@faa.gov. Any commentary that the FAA receives which is not specifically designated as CBI will be placed in the public docket for this rulemaking.

Discussion

EASA, which is the Technical Agent for the Member States of the European Union, has issued EASA AD No. 2019-0149, dated June 24, 2019, to correct an unsafe condition for Leonardo S.p.a. (formerly Finmeccanica S.p.A., AgustaWestland S.p.A., Agusta S.p.A.; and AgustaWestland Philadelphia Corporation, formerly Agusta Aerospace Corporation) Model AB139 and AW139 helicopters with certain serial numbered engine mounting rods part number (P/N) 3G7120V00132 installed. EASA advises of reports of a production non-conformity on a specific batch of these engine mounting rods. EASA further advises that this non-conformity degrades the material strength of the engine mounting rods.

EASA states this condition, if not corrected, could lead to failure of an affected engine mounting rod, possibly resulting in loss of control of the helicopter. Accordingly, the EASA AD requires removing from service each affected engine mounting rod, emailing a completed “Scrap Report” to Leonardo Helicopters Division, and installing a serviceable engine mounting rod. The EASA AD also prohibits installing an affected engine mounting rod on any helicopter.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other helicopters of the same type designs.

Related Service Information Under 1 CFR Part 51

The FAA reviewed Leonardo Helicopters Alert Service Bulletin (ASB) No. 139-593, Revision A, dated June 14, 2019 (ASB 139-593, Revision A), for Model AB139 and AW139 helicopters. This service information specifies procedures to replace the engine outboard and inboard mounting rods from the Number 1 and Number 2 engines.

This service information is reasonably available because the interested parties have access to it through their normal course of business or by the means identified in the ADDRESSES section.

Other Related Service Information

The FAA reviewed Leonardo Helicopters ASB No. 139-593, dated June 11, 2019. This service information contains the same procedures as ASB 139-593, Revision A. However, ASB 139-593, Revision A expands the applicability from certain serial-numbered Model AB139 and AW139 helicopters to all Model AB139 and AW139 helicopters with affected engine mounting rods installed.

The FAA also reviewed Leonardo Helicopters AMP DM 39-A-71-21-05-00A-520A-B, AMP DM 39-A-71-21-05-00A-720A-B, AMP DM 39-A-71-21-06-00A-520A-B, AMP DM 39-A-71-21-06-00A-720A-B, AMP DM 39-A-71-21-07-00A-520A-B, AMP DM 39-A-71-21-07-00A-720A-B, AMP DM 39-A-71-21-08-00A-520A-B, and AMP DM 39-A-71-21-08-00A-720A-B, all dated October 4, 2019. This service information specifies instructions for removing and installing the outboard and inboard engine mounting rods.

Proposed AD Requirements

This proposed AD would require removing from service certain serial-numbered engine mounting rods P/N 3G7120V00132. This proposed AD would also prohibit installing an affected engine mounting rod on any helicopter.

Differences Between This Proposed AD and the EASA AD

The EASA AD requires emailing a completed “Scrap Report” to Leonardo Helicopters Division at the same compliance time as the engine mounting rod removal, whereas this proposed AD would not.

Costs of Compliance

The FAA estimates that this AD would affect up to 126 helicopters of U.S. Registry. The FAA estimates that operators may incur the following costs in order to comply with this AD. Labor costs are estimated at $85 per work-hour.

Replacing an engine mounting rod would require about 8 work-hours per and parts would cost about $1,000 for an estimated cost of $1,680 per engine mounting rod.

According to Leonardo Helicopter's service information, some of the costs of this proposed AD may be covered under warranty, thereby reducing the cost impact on affected individuals. The FAA does not control warranty coverage by Leonardo Helicopters. Accordingly, all costs are included in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Leonardo S.p.a.: Docket No. FAA-2020-0649; Product Identifier 2019-SW-061-AD.

(a) Applicability

This AD applies to Leonardo S.p.a. Model AB139 and AW139 helicopters, certificated in any category, with an engine mounting rod part number (P/N) 3G7120V00132 with a serial number (S/N) listed in Figures 2 or 3 of Leonardo Helicopters Alert Service Bulletin No. 139-593, Revision A, dated June 14, 2019 (ASB 139-593), installed.

(b) Unsafe Condition

This AD defines the unsafe condition as a non-conforming engine mounting rod. This condition could result in structural failure of the engine mounting rod and subsequent loss of control of the helicopter.

(c) Comments Due Date

The FAA must receive comments by September 8, 2020.

(d) Compliance

You are responsible for performing each action required by this AD within the specified compliance time unless it has already been accomplished prior to that time.

(e) Required Actions

(1) Before further flight, determine the total hours time-in-service (TIS) of each engine mounting rod.

(2) Before reaching 225 total hours TIS or within 25 hours TIS, whichever occurs later, with the battery and any other electrical power supply disconnected, remove from service the engine mounting rod as follows:

(i) For the Number 1 engine outboard mounting rod, remove from service the Number 1 engine outboard mounting rod and install an airworthy Number 1 engine outboard mounting rod as shown in Detail “B” of Figure 1 of ASB 139-593 and by following the Accomplishment Instructions, paragraphs 3.1 and 3.2 of ASB 139-593, except you are not required to discard the Number 1 engine outboard mounting rod or comply with the “Scrap Report” instruction in paragraph 3.1 of ASB 139-593.

Note 1 to paragraph (e)(2)(i) through (iv) of this AD: Figure 1 of ASB 139-593 shows the engine outboard and inboard mounting rod assemblies for the left-hand side only, the right-hand side is symmetrical.

(ii) For the Number 1 engine inboard mounting rod, remove from service the Number 1 engine inboard mounting rod and install an airworthy Number 1 engine inboard mounting rod as shown in Detail “C” of Figure 1 of ASB 139-593 and by following the Accomplishment Instructions, paragraphs 3.3 and 3.4 of ASB 139-593, except you are not required to discard the Number 1 engine inboard mounting rod or comply with the “Scrap Report” instruction in paragraph 3.3 of ASB 139-593.

(iii) For the Number 2 engine outboard mounting rod, remove from service the Number 2 engine outboard mounting rod and install an airworthy Number 2 engine outboard mounting rod as shown in Detail “B” of Figure 1 of ASB 139-593 and by following the Accomplishment instructions, paragraphs 4.1 and 4.2 of ASB 139-593, except you are not required to discard the Number 2 engine outboard mounting rod or comply with the “Scrap Report” instruction in paragraph 4.1 of ASB 139-593.

(iv) For the Number 2 engine inboard mounting rod, remove from service the Number 2 engine inboard mounting rod and install an airworthy Number 2 engine inboard mounting rod as shown in Detail “C” of Figure 1 of ASB 139-593 and by following the Accomplishment instructions, paragraphs 4.3 and 4.4 of ASB 139-593, except you are not required to discard the Number 2 engine inboard mounting rod or comply with the “Scrap Report” instruction in paragraph 4.3 of ASB 139-593.

(3) As of the effective date of this AD, do not install on any helicopter an engine mounting rod with a P/N and S/N listed in paragraph (a) of this AD.

(f) Credit for Previous Actions

Actions accomplished before the effective date of this AD in accordance with the procedures specified in Leonardo Helicopters Alert Service Bulletin No. 139-593, dated June 11, 2019, are considered acceptable for compliance with the corresponding actions specified in paragraphs (e)(1) and (2) of this AD.

(g) Alternative Methods of Compliance (AMOCs)

(1) The Manager, Rotorcraft Standards Branch, FAA, may approve AMOCs for this AD. Send your proposal to: Kristi Bradley, Aerospace Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

(1) Leonardo Helicopters Alert Service Bulletin No. 139-593, dated June 11, 2019, which is not incorporated by reference, contains additional information about the subject of this AD. For service information identified in this AD, contact Leonardo S.p.a. Helicopters, Emanuele Bufano, Head of Airworthiness, Viale G.Agusta 520, 21017 C.Costa di Samarate (Va) Italy; telephone +39-0331-225074; fax +39-0331-229046; or at https://www.leonardocompany.com/en/home. You may view a copy of the service information at the FAA, Office of the Regional Counsel, Southwest Region, 10101 Hillwood Pkwy., Room 6N-321, Fort Worth, TX 76177.

(2) The subject of this AD is addressed in European Union Aviation Safety Agency (EASA) AD No. 2019-0149, dated June 24, 2019. You may view the EASA AD on the internet at https://www.regulations.gov in the AD Docket.

(i) Subject

Joint Aircraft Service Component (JASC) Code: 7120, Engine Mount Section.

Issued on July 1, 2020.
Gaetano A. Sciortino,
Deputy Director for Strategic Initiatives, Compliance & Airworthiness Division, Aircraft Certification Service.

[FR Doc. 2020-14607 Filed 7-8-20; 8:45 am]

BILLING CODE 4910-13-P